CONSUMER PRODUCT SAFETY COMMISSION

16 CFR Chapter II

[Docket No. CPSC-2025-0006]

Petition Requesting a Mandatory Regulation for Child-Resistant Above-Ground and Portable Pool Ladders

AGENCY: Consumer Product Safety Commission.

ACTION: Request for comment on petition.

SUMMARY: The Consumer Product Safety Commission (Commission or CPSC) has received a petition requesting that the Commission establish a regulation for child-resistant above-ground and portable pool ladders to reduce the drowning deaths of children younger than 5 years of age, and particularly children between 1 and 3 years. The Commission invites written comments concerning the petition.

DATES: Submit comments by June 9, 2025.

ADDRESSES: You can submit comments, identified by Docket No. CPSC-2025-0006, by any of the following methods:

Electronic Submissions: Submit electronic comments to the Federal eRulemaking Portal at: www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East-West Highway, Bethesda, MD 20814; telephone: (301) 504-7479. If you wish to submit confidential business information, trade secret information, or other sensitive or protected information that you do not want available to the public, you may submit such comments by mail, hand delivery, courier, or you may email them to: cpsc-os@cpsc.gov.

Instructions: All submissions must include the agency name and docket number. CPSC may post all comments without change, including any personal identifiers, contact information, or other personal information provided, to: www.regulations.gov. Do not submit to this website: confidential business information, trade secret information, or other sensitive or protected information that you do not want to be available to the public. If you wish to submit such information, please submit it according to the instructions for mail/hand delivery/courier/confidential written submissions.

Docket: For access to the docket to read background documents or comments received, go to: www.regulations.gov, and insert the docket number, CPSC-2025-0006, into the “Search” box, and follow the prompts.

FOR FURTHER INFORMATION CONTACT: Alberta E. Mills, Office of the Secretary, Consumer Product Safety Commission, 4330 East-West Highway, Bethesda, MD 20814; telephone: 301-504-7479; email: cpsc-os@cpsc.gov.

SUPPLEMENTARY INFORMATION: On January 22, 2025, Carol Pollack-Nelson, Ph.D., of Independent Safety Consulting, LLC (Petitioner), submitted a petition requesting that the Commission establish a mandatory regulation for child-resistant above-ground and portable pool ladders to reduce the drowning deaths of children younger than 5 years of age, and particularly children between 1 and 3 years, the age group asserted to be at greatest risk.

The Petitioner notes that two voluntary standards are relevant to this petition: (1) ASTM Standard Specification for Aboveground Portable Pools for Residential Use, ASTM F2666-16; and (2) ANSI/APSP/ICC-4 2012 American National Standard for Aboveground/Onground Residential Pools. ASTM F2666-16 covers all types of portable pools with a water depth of less than 36 inches (91 cm). ANSI/APSP-4 pertains to aboveground/on ground residential swimming pools with a water depth of 36 inches (91 cm) or greater.

The Petitioner asserts that since 2016, the ASTM voluntary standard for portable pools, ASTM F2666-16, Safety Specification for Aboveground Portable Pools for Residential Use,¹ has included a “general requirement” for child resistance on pool ladders. The requirement in section 5.1 of ASTM F2666-16 states, “Any ladders sold with or for use with Type A ² or Type B ³ pools shall meet all the applicable requirements found in ANSI/APSP-4 and be child resistant to the degree of preventing unauthorized access for children under the age of five years.” ANSI/APSP-4, American National Standard for Aboveground/Onground Residential Swimming Pools, contains requirements for ladder warnings and performance standards.⁴ However, the Petitioner states that there is no protocol or metric required to verify that a ladder is child-resistant. Rather, section 5.1 of the voluntary standard states: “Verification can be satisfied by document review.” The Petitioner also asserts that above-ground pools (having a side height measuring at least 36 inches) are much more likely to be involved in child drownings than portable pools.

¹ ASTM F2666-16 defines a “portable pool” as “any movable structure with the intended purpose of being used for swimming or other water recreation by consumers, and having a water depth (at the fill line) less than 36 in. (91 cm).” F2666-16, sec. 3.1.6. A copy of ASTM F2666-16 may be purchased from ASTM through its website, www.astm.org.

² Section 4.1.1 of the standard defines Type A pools as “Pools with no means of water circulation or water treatment during or after use. Such pools include but are not limited to wading pools, splash pools, and kiddy pools.”

³ Section 4.1.2 of the standard defines Type B pools as “Pools that are provided with a means or connection provisions to add equipment for circulation and filtration of water.”

⁴ A copy of ANSI/APSP-4 may be purchased from ANSI through its website, webstore.ansi.org.

The Petitioner asserts, based on a review and analysis of CPSC In-Depth Investigations and CPSC data regarding nonfatal drowning injuries and deaths related to pools, that child-resistant ladders are necessary to mitigate the risk of drowning from children's access to above-ground and portable pools. Therefore, the Petitioner requests that CPSC develop a regulation that will require child-resistance for all pool ladders sold with, or for, above-ground or portable pools to mitigate the risk of drowning. Specifically, the Petitioner requests the Commission promulgate a mandatory regulation to establish: (1) a child-resistance requirement for A-frame and other ladders intended for above-ground and portable pools; and (2) an objective and measurable definition of “child-resistant.”

The Commission seeks comment from the public concerning this petition as well as any studies or data pertaining to child-resistance for ladders intended to be used with above-ground and portable pools.⁵ To the extent possible, commenters should provide specific information, including reference to known documentation, engineering studies, technical studies, reports of injuries, medical findings, legal analyses, economic analyses, and environmental impact analyses.

⁵ The Commission voted 5-0 to approve publication of this notice.

The major factors the Commission considers in deciding whether to grant or deny a petition regarding a product include:

(1) Whether the product presents an unreasonable risk of injury.

(2) Whether a rule is reasonably necessary to eliminate or reduce the risk of injury.

(3) Whether failure to initiate the requested rulemaking proceeding would unreasonably expose the petitioner or other consumers to the risk of injury which the petitioner alleges is presented by the product.

16 CFR 1051.9(a).

In considering these factors, the Commission will consider the relative priority of the risk of injury associated with the product at issue and the Commission's available resources. 16 CFR 1051.9(b). The CPSC Policy on Establishing Priorities for Commission Action, 16 CFR 1009.8, sets forth the criteria upon which Commission priorities are based.

The petition is available at: http://www.regulations.gov, under Docket No. CPSC-2025-0006, Supporting and Related Materials. Alternatively, interested parties may obtain a copy of the petition by writing or calling the Office of the Secretary, Consumer Product Safety Commission, 4330 East-West Highway, Bethesda, MD 20814; telephone (301) 504-7479; email: cpsc-os@cpsc.gov.

Alberta E. Mills,
Secretary, U.S. Consumer Product Safety Commission.

[FR Doc. 2025-06125 Filed 4-9-25; 8:45 am]

BILLING CODE 6355-01-P